DEPARTMENT OF ENERGY

Federal Energy Regulatory Commission

Combined Notice of Filings

Take notice that the Commission has received the following Natural Gas Pipeline Rate and Refund Report filings:

Filings Instituting Proceedings

Docket Numbers: CP09-12-001.

Applicants: Narragansett Electric Company.

Description: Compliance filing of Information Supporting Maximum Blanket Certificate Rate of the Narragansett Electric Company.

Filed Date: 6/17/13.

Accession Number: 20130617-5088.

Comments Due: 5 p.m. ET 3/16/16.

Docket Numbers: RP16-627-000.

Applicants: Algonquin Gas Transmission, LLC.

Description: § 4(d) Rate Filing: Negotiated Rates—BBPC d/b/a Great Eastern contract 791252 to be effective 3/1/2016.

Filed Date: 2/24/16.

Accession Number: 20160224-5035.

Comments Due: 5 p.m. ET 3/7/16.

Docket Numbers: RP16-628-000.

Applicants: LA Storage, LLC.

Description: § 4(d) Rate Filing: LA Storage 2016 Annual Adjustment of Fuel Retainage Percentage Filing to be effective 3/1/2016.

Filed Date: 2/24/16.

Accession Number: 20160224-5062.

Comments Due: 5 p.m. ET 3/7/16.

Docket Numbers: RP16-629-000.

Applicants: Texas Eastern Transmission, LP.

Description: § 4(d) Rate Filing: Negotiated Rate Eff 4-1-2016 for J Aron contract 8940246 to be effective 4/1/2016.

Filed Date: 2/25/16.

Accession Number: 20160225-5048.

Comments Due: 5 p.m. ET 3/8/16.

Docket Numbers: RP16-630-000.

Applicants: Transcontinental Gas Pipe Line Company.

Description: § 4(d) Rate Filing: Transco Annual Fuel Tracker to be effective 4/1/2016.

Filed Date: 2/25/16.

Accession Number: 20160225-5049.

Comments Due: 5 p.m. ET 3/8/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 25, 2016.
Nathaniel J. Davis, Sr.,
Deputy Secretary.

[FR Doc. 2016-04662 Filed 3-2-16; 8:45 am]

BILLING CODE 6717-01-P